FEDERAL MINE SAFETY AND HEALTH REVIEW COMMISSION

Sunshine Act Notice

TIME AND DATE: 10:00 a.m., Tuesday, February 28, 2023

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor on behalf of Otten v. Continental Cement Co., Docket No. CENT 2021-0013. (Issues include whether the Judge erred in concluding that the operator took an adverse employment action against the complainant in violation of sections 105(c) and 103(f) of the Mine Act.).

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 236-7472; Passcode: 678-100

Authority: 5 U.S.C. 552b.

Dated: February 17, 2023.
Sarah L. Stewart,
Deputy General Counsel.

[FR Doc. 2023-03728 Filed 2-17-23; 4:15 pm]

BILLING CODE 6735-01-P